DEPARTMENT OF COMMERCE

Foreign-Trade Zones Board

[Order No. 1898]

Reorganization of Foreign-Trade Zone 241 Under Alternative Site Framework Fort Lauderdale, Florida

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of Fort Lauderdale, grantee of Foreign-Trade Zone 241, submitted an application to the Board (FTZ Docket B-48-2012, docketed 6/27/2012) for authority to reorganize under the ASF with a service area comprised of portions of Broward County, Florida (as described in the application), adjacent to the Port Everglades Customs and Border Protection port of entry, to modify Site 1 by removing acreage, to expand Sites 2 and 4, to remove Site 3 in its entirety from the zone, and to categorize FTZ 241's Sites 1, 2 and 4 as magnet sites and Site 5 as a usage-driven site;

Whereas, notice inviting public comment was given in the Federal Register (77 FR 39466-39467, 7/3/2012) and the application has been processed pursuant to the FTZ Act and the Board's regulations; and,

Whereas, the Board adopts the findings and recommendations of the examiner's report, and finds that the requirements of the FTZ Act and the Board's regulations are satisfied with respect to the ASF reorganization, modification of Site 1 and removal of Site 3 (but not with respect to the proposed expansion of Sites 2 and 4);

Now, therefore, the Board hereby orders:

The application to reorganize and expand FTZ 241 under the ASF is approved in part (as it relates to the ASF reorganization, modification of Site 1 and removal of Site 3), subject to the FTZ Act and the Board's regulations, including Section 400.13, to the Board's standard 2,000-acre activation limit for the zone, to a five-year ASF sunset provision for magnet sites that would terminate authority for existing Sites 2 and 4 if not activated by April 30, 2018, and to a three-year ASF sunset provision for usage-driven sites that would terminate authority for Site 5 if no foreign-status merchandise is admitted for a bona fide customs purpose by April 30, 2016.

Signed at Washington, DC, this 30th day of May 2013.
Paul Piquado,
Assistant Secretary of Commerce for Import Administration, Alternate Chairman, Foreign-Trade Zones Board.

Attest:

Andrew McGilvray,
Executive Secretary.

[FR Doc. 2013-11203 Filed 5-9-13; 8:45 am]

BILLING CODE 3510-DS-P